DEPARTMENT OF THE INTERIOR

National Park Service

[NPS-WASO-NRNHL-20062; PPWOCRADI0, PCU00RP14.R50000]

National Register of Historic Places; Notification of Pending Nominations and Related Actions

AGENCY: National Park Service, Interior.

ACTION: Notice.

SUMMARY: The National Park Service is soliciting comments on the significance of properties nominated before January 2, 2016, for listing or related actions in the National Register of Historic Places.

DATES: Comments should be submitted by February 5, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before January 2, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALASKA

Fairbanks North Star Borough-Census Area

St. Matthew's Episcopal Church,1029 1st Ave.,Fairbanks, 16000001

ARIZONA

Pinal County

Chi'chil Bildagoteel Historic District,Address Restricted,Superior, 16000002

CALIFORNIA

Placer County

DeWitt General Hospital,(Latinos in 20th Century California MPS)1st St. & Bell Ave.,Auburn, 16000003

ILLINOIS

Cook County

Central Manufacturing District—Original East Historic District,3500-3700 blks. of S. Morgan, S. Racine Ave. & S. Iron St., 3500-3900 blks. of S. Ashland Ave, 1200-1600 W. 38th St.,Chicago, 16000004

KENTUCKY

Hickman County

First Christian Church,201 N. Washington St.,Clinton, 16000005

Jefferson County

American Life and Accident Insurance Company Building,471 W. Main St.,Louisville, 16000006

Klotz Confectionary Company,731 Brent St.,Louisville, 16000007

Louisville Cotton Mills (Boundary Increase),(Textile Mills of Louisville TR)1318 McHenry St.,Louisville, 16000008

Marion County

Purdom, Clel, House,7075 Danville Hwy.,Lebanon, 16000009

Mason County

Sroufe House,2471 Mary Ingles Hwy.,Dover, 16000010

McCracken County

California Apartments,2900 Clay,Paducah, 16000011

Metcalfe County

Bell House, The,7310 Columbia Rd.,Edmonton, 16000012

Rowan County

Morehead Chesapeake and Ohio Railway Freight Depot,130 E. 1st St.,Morehead, 16000013

Spencer County

Stidger, Felix Grundy, House,102 Garrard St.,Taylorsville, 16000014

NEW YORK

Chemung County

North Main and West Water Commercial Historic District,100-184 N. Main & 200-233 W. Water Sts.,Elmira, 16000015

Kings County

Congregation Chevra Linath Hazedeck,109 Clara St.,Brooklyn, 16000016

Greenwood Baptist Church,461 6th St.,Brooklyn, 16000017

Prospect Heights Historic District (Boundary Increase),Portions of Bergen & Dean Sts., Flatbush, Underhill, Vanderbelt &Washington Aves., Butler, Prospect & Sterling Pls.,Brooklyn, 16000018

Monroe County

Hulburt, Thomas L., House,106 Hulburt Rd.,Fairport, 16000019

New York County

Hudson View Gardens,116 Pinehurst Ave.,Manhattan, 16000020

Steuben County

Temple Beth-El,12 Church St.,Hornell, 16000021

WISCONSIN

Brown County

Green Bay YMCA,235 235 N. Jefferson St.,Green Bay, 16000022

Authority: 60.13 of 36 CFR part 60.

Dated: January 5, 2016.
J. Paul Loether,
Chief, National Register of Historic Places/National Historic Landmarks Program.

[FR Doc. 2016-01073 Filed 1-20-16; 8:45 am]

BILLING CODE 4312-51-P